DEPARTMENT OF STATE

[Public Notice:10878]

U.S. Department of State Advisory Committee on Private International Law (ACPIL): Public Meeting on Certain Maritime Issues

The Office of the Assistant Legal Adviser for Private International Law, Department of State, gives notice of a public meeting to discuss the development of a possible international convention to address cross-border issues related to the judicial sale of ships at the United Nations Commission on International Trade Law (UNCITRAL). Views will also be sought on whether or not ratification of the UN Convention on Contracts for the International Carriage of Goods Wholly or Partly by Sea (the “Rotterdam Rules”) would benefit the United States. The public meeting will take place on Wednesday, October 16, 2019 from 2 p.m. until 4:30 p.m. EDT. This is not a meeting of the full Advisory Committee.

UNCITRAL's Working Group VI is currently working on a potential instrument to address cross-border issues related to the judicial sale of ships. The first meeting to discuss this project was held in New York from May 13-17, 2019, and the relevant documents from that meeting are available at https://uncitral.un.org/en/working_groups/6/sale_ships.

The purpose of the public meeting is to obtain the views of concerned stakeholders on (1) what issues the Working Group should concentrate on in the area of the judicial sale of ships; (2) what, if any, other matters should be considered in relation to this topic; and (3) whether ratification of the Rotterdam Rules would serve U.S. interests.

Time and Place: The meeting will take place on Wednesday, October 16, 2019, from 2 p.m. until 4:30 p.m. via a teleconference. Those who cannot participate but wish to comment are welcome to do so by email to Sharla Draemel at DraemelS@state.gov.

Public Participation: This meeting is open to the public. If you would like to participate by telephone, please email pil@state.gov to obtain the call-in number and other information.

Authority: Federal Advisory Committee Act, 5 U.S.C. Appendix, and 41 CFR part 102-3.

Sharla Draemel,
Attorney-Adviser, Office of Private International Law, Office of Legal Adviser, Department of State.

[FR Doc. 2019-20231 Filed 9-18-19; 8:45 am]

BILLING CODE 7410-08-P